DEPARTMENT OF VETERANS AFFAIRS

[OMB Control No. 2900-0342]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before November 13, 2007.

ADDRESSES: Submit written comments on the collection of information through www.Regulations.gov or to VA's OMB Desk Officer, OMB Human Resources and Housing Branch, New Executive Office Building, Room 10235, Washington, DC 20503 (202) 395-7316. Please refer to “OMB Control No. 2900-0342” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-0342.”

SUPPLEMENTARY INFORMATION: Titles:

a. Other On-The-Job Training and Apprenticeship Training Agreement and Standards, (Training Programs Offered Under 38 U.S.C. 3677 and 3687), VA Form 22-8864.

b. Employer's Application to Provide Job Training, (Under Title 38 U.S. Code 3677 and 3687), VA Form 22-8865.

OMB Control Number: 2900-0342.

Type of Review: Extension of a currently approved collection.

Abstract: VA uses the data on VA Form 22-8864 to ensure that all trainees receive a training agreement and to make certain that training programs and agreements meet statutory requirements for approval of an employer's job training program.

An agency may not conduct or sponsor, and a person is not required to respond to a collection of information unless it displays a currently valid OMB control number. The Federal Register Notice with a 60-day comment period soliciting comments on this collection of information was published on July 24, 2007, at page 40367.

Affected Public: Business or other for-profit, Not-for-profit institutions, Farms, Federal Government, State, Local or Tribal Government.

Estimated Annual Burden: 7,943 hours.

a. Other On-The-Job Training and Apprenticeship Training Agreement and Standards, (Training Programs Offered Under 38 U.S.C. 3677 and 3687), VA Form 22-8864—2,997 hours.

b. Employer's Application to Provide Job Training, (Under Title 38 U.S. Code 3677 and 3687), VA Form 22-8865—4,496 hours.

Frequency of Response: On occasion.

a. Other On-The-Job Training and Apprenticeship Training Agreement and Standards, (Training Programs Offered Under 38 U.S.C. 3677 and 3687), VA Form 22-8864—30 minutes.

b. Employer's Application to Provide Job Training, (Under Title 38 U.S. Code 3677 and 3687), VA Form 22-8865—90 minutes.

Estimated Number of Respondents: 8,991.

a. Other On-The-Job Training and Apprenticeship Training Agreement and Standards, (Training Programs Offered Under 38 U.S.C. 3677 and 3687), VA Form 22-8864—5,994 respondents.

b. Employer's Application to Provide Job Training, (Under Title 38 U.S. Code 3677 and 3687), VA Form 22-8865—2,997 respondents.

Dated: October 1, 2007.
By direction of the Secretary.
Denise McLamb,
Program Analyst, Records Management Service.

[FR Doc. E7-20005 Filed 10-10-07; 8:45 am]

BILLING CODE 8320-01-P